RAILROAD RETIREMENT BOARD

Agency Forms Submitted for OMB Review, Request for Comments

SUMMARY: In accordance with the Paperwork Reduction Act of 1995 (44 U.S.C. Chapter 35), the Railroad Retirement Board (RRB) is forwarding two (2) Information Collection Requests (ICR) to the Office of Information and Regulatory Affairs (OIRA), Office of Management and Budget (OMB) to request extensions without change of currently approved collections of information. Our ICR describes the information we seek to collect from the public. Review and approval by OIRA ensures that we impose appropriate paperwork burdens.

The RRB invites comments on the proposed collections of information to determine (1) The practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date

1. Application for Survivor Death Benefits; OMB 3220-0031

Under Section 6 of the Railroad Retirement Act (RRA), lump-sum death benefits are payable to surviving widow and widowers, children and certain other dependents. Lump-sum death benefits are payable after the death of a railroad employee only if there are no qualified survivors of the employee immediately eligible for annuities. With the exception of the residual death benefit, eligibility for survivor benefits depends on whether the employee was “insured” under the RRA at the time of death. If a deceased employee was not so insured, jurisdiction of any survivor benefits payable is transferred to the Social Security Administration and survivor benefits are paid by that agency instead of the RRB. The collection obtains the information required by the RRB to determine entitlement to and amount of the survivor death benefits applied for.

The RRB currently utilizes Form(s) AA-11a (Designation for Change of Beneficiary for Residual Lump-Sum), AA-21cert, (Application Summary and Certification), AA-21 (Application for Lump-Sum Death Payment and Annuities Unpaid at Death), G-131 (Authorization of Payment and Release of All Claims to a Death Benefit or Accrued Annuity Payment), and G-273a (Funeral Director's Statement of Burial Charges), to obtain the necessary information. One response is requested of each respondent. Completion is required to obtain benefits.

The estimated annual respondent burden is as follows:

Estimate of Annual Respondent Burden
Form No.(s) | Annual responses | Time (min) | Burden (hrs)
AA-11a | 200 | 10 | 33
AA-21cert (with assistance) | 5,400 | 20 | 1,800
AA-21 manual (without assistance) | 300 | 40 | 200
G-131 | 600 | 5 | 50
G-273a | 5,000 | 10 | 833
Total | 11,500 |  | 2,916

Previous Requests for Comments: The RRB has already published the initial 60-day notice (74 FR 7274 & 7275 on February 13, 2009) required by 44 U.S.C. 3506(c)(2). That request elicited no comments.

Information Collection Request (ICR)

Title: Application for Survivor Death Benefits.

OMB Control Number: OMB 3220-0031.

Form(s) submitted: AA-11a, AA-21cert, AA-21, G-131, G-273a.

Expiration date of current OMB clearance: 5/31/2009.

Type of request: Extension without change of a currently approved collection.

Affected public: Individuals or households.

Abstract: The collection obtains the information needed to pay death benefits and annuities due but unpaid at death under the Railroad Retirement Act. Benefits are paid to designated beneficiaries or to survivors in a priority designated by law.

Changes proposed: The RRB proposes no changes to the forms in the collection.

The total burden estimate for the ICR is as follows:

Estimated annual number of respondents: 11,500.

Total annual responses: 11,500.

Total annual reporting hours: 2,916.

2. Pension Plan Reports; OMB 3220-0089

Under Section 2(b) of the Railroad Retirement Act (RRA), the Railroad Retirement Board (RRB) pays supplemental annuities to qualified RRB employee annuitants. A supplemental annuity, which is computed according to Section 3(e) of the RRA, can be paid at age 60 if the employee has at least 30 years of creditable railroad service or at age 65 if the employee has 25-29 years of railroad service. In addition to 25 years of service, a “current connection” with the railroad industry is required. Eligibility is further limited to employees who had at least one month of rail service before October 1981 and were awarded regular annuities after June 1966. Further, if an employee's 65th birthday was prior to September 2, 1981, he or she must not have worked in rail service after certain closing dates (generally the last day of the month following the month in which age 65 is attained).

Under Section 2(h)(2) of the RRA, the amount of the supplemental annuity is reduced if the employees receive monthly pension payments, or lump-sum pension payments, from their former railroad employer, which are based in whole or in part on contributions from that railroad employer. The employees' own contributions to their pension accounts do not cause a reduction. An employer private pension is described in 20 CFR 216.40-216.42.

The RRB requires the following information from railroad employers to calculate supplemental annuities: (a) The current status of railroad employer pension plans and whether such employer pension plans cause reductions to the RRB supplemental annuity; (b) the amount of the employer private pension being paid to the employee; (c) whether or not the employer made contributions to the pension; (d) whether or not the employee was cashed out before attaining retirement age under the employer pension plan or received the pension in a lump-sum payment in lieu of monthly pension payments; and (e) whether the employer pension plan continues when the employer status under the RRA changes. The requirement that railroad employers furnish pension information to the RRB is contained in 20 CFR 209.2.

The RRB currently utilizes Form(s) G-88p (Employer's Supplemental Pension Report), G-88r (Request for Information About New or Revised Pension Plan), and G-88r.1 (Request for Additional Information about Employer Pension Plan in Case of Change of Employer Status or Termination of Pension Plan), to obtain the necessary information from railroad employers. Multiple responses may be received from a respondent employer. Completion is mandatory.

The estimated annual respondent burden is as follows:

Estimate of Annual Respondent Burden
Form No.(s) | Annual responses | Time (min) | Burden (hrs)
G-88p | 750 | 8 | 100
G-88r | 10 | 10 | 2
G-88r.1 | 5 | 7 | 1
Total | 765 |  | 103

Previous Requests for Comments: The RRB has already published the initial 60-day notice (74 FR 10971 & 10972 on March 13, 2009) required by 44 U.S.C. 3506(c)(2). That request elicited no comments.

Information Collection Request (ICR)

Title: Pension Plan Reports.

OMB Control Number: OMB 3220-0089.

Form(s) submitted: G-88p, G-88r and G88r.1.

Expiration date of current OMB clearance: 5/31/2009.

Type of request: Extension with change of a currently approved collection.

Affected public: Business or other for profit.

Abstract: The Railroad Retirement Act provides for payment of a supplemental annuity to a qualified railroad retirement annuitant. The collection obtains information from the annuitant's employer to determine (a) the existence of a railroad employer pension plans and whether such plans, if they exist, require a reduction to supplemental annuities paid to the employer's former employees and (b) the amount of supplemental annuities due railroad employees.

Changes Proposed: The RRB proposes no changes to the forms in the collection.

The total burden estimate for the ICR is as follows:

Estimated annual number of respondents: 500.

Total annual responses: 765.

Total annual reporting hours: 103.

Additional Information or Comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. E9-11404 Filed 5-14-09; 8:45 am]

BILLING CODE 7905-01-P